DEPARTMENT OF COMMERCE

Office of the Secretary

[Docket No.: 021023247-2247-01]

Privacy Act of 1974; System of Records

AGENCY: Office of Administration, Office of the Secretary, Department of Commerce.

ACTION: Notice and request for comments.

SUMMARY: In accordance with the Privacy Act (5 U.S.C. 552a(e)(4) and (11)), the Department of Commerce is issuing notice of our intent to amend the system of records entitled Commerce/Census-3, “Individual and Household Statistical Survey Records and Special Studies Records.” We invite public comment on the proposed change in this publication.

DATES: The amendments will become effective as proposed without further notice on December 2, 2002.

Comment Date: To be considered, written comments must be submitted on or before December 2, 2002.

ADDRESSES: Comments may be mailed to Gerald W. Gates, Chief, Policy Office, U.S. Census Bureau, Washington, DC 20233.

SUPPLEMENTARY INFORMATION: The amendment updates administrative information concerning the locations of the system files, the categories of individuals covered by the system, the categories of records in the system, the purpose of the system of records, and the disposal of the records in the system in addition to other minor administrative updates. Accordingly, the Individual and Household Statistical Surveys and Special Studies Records system notice originally published at 45 FR 82105, December 12,1980, is amended by the addition of the following information updates.

Commerce/Census-3

System Location:

Insert after “20233;” “Bureau of the Census, Bowie Computer Center 1701, Melford Boulevard, Bowie, Maryland 20717”. Insert before “1201 East 10th Street” “National Processing Center,”.

Categories of individuals covered by the system:

Delete the sentence and insert the following information. “This system contains information on households and individuals designated for statistical sample surveys. It includes:

(1) Household respondents age 15 year old or over selected for participation in the Current Population Survey, a survey with monthly interviewing and monthly supplements.

(2) Household members 15 years old and over who participate in the Survey of Income and Program Participation, a survey with monthly interviewing.

(3) Household respondents 15 years old or older selected for participation in the Survey of Program Dynamics, a longitudinal survey conducted on a yearly basis.

(4) Household respondents age 16 years or over selected for participation in the American Housing Surveys, conducted on a yearly basis.

(5) All household members age 12 and over who participate in the National Crime Victimization Survey, a monthly survey with supplements that include the Police Public Contact Survey and the School Crime Supplement.

(6) Household respondents selected for participation in the National Survey of Fishing, Hunting, and Wildlife-Associated Recreation, a survey conducted every five years.

(7) Women selected for participation in the National Longitudinal Survey of Women, a longitudinal survey conducted every two years.

(8) College graduates in science and engineering selected for participation in the National Survey of College Graduates, conducted biennially.

(9) Household respondents selected for participation in the New York City Housing and Vacancy Survey, conducted triennially.

(11) Household respondents age 15 year or over selected for participation in the American Community Survey, a survey with monthly interviewing.

(12) Persons age 16 years old or over selected to provide information for the consumer unit for the Consumer Expenditure Survey, which includes a quarterly interview and a diary survey.

(13) Owners of nonfarm, privately owned residential properties selected to provide information on the characteristics of homeowner and rental properties for the Residential Finance Survey, conducted decennially.”

Purpose(s):

Add “The purpose of this system of records is to conduct research on the methodology associated with various aspects of surveys, such as data quality checks and review during post data collection processing because of an unusual inconsistency or other data problem. Special studies' data maintained by the Bureau of the Census are collected in order to conduct research on the methodology associated with various aspects of surveys (e.g., cognitive testing of questionnaires, usability testing of computer software and equipment, nonresponse research, questionnaire design, etc.). These data are used solely for statistical purposes.”

Authority for maintenance of the system:

Delete all citations. Add “13 U.S.C. 8, 141, and 182”.

Routine uses of records maintained in the system:

Delete paragraph (1). Renumber “(2)” as “(1)” and “(3)” as “(2)''.

Policies and practices for storing, retrieving, accessing, retaining, and disposing of records in the system:

Storage:

After “hard disk” insert “local area network, audio and video tape, CD-ROM, and DVD''.

Retrievability:

Change “Unique” to “unique” and before “unique” insert “Name, address, Social Security number, and''.

Safeguards:

At the end of the paragraph add “Computer systems processing sensitive information meet the basic security requirements for discretionary access control as defined by DOD 5200.28 STD, commonly referred to as C2-level security. This level of security controls through use of specific security features, access to information such that only properly authorized individuals, or processes operating on their behalf, will have access to read, write, create, or delete information.”

Retention and disposal:

Strike “approved GSA Schedules” and insert “the General Records Schedule and Census Bureau records control schedules that are approved by the National Archives and Records Administration.”

Systems manager(s) and address:

Strike “Privacy Officer, Program and Policy Development Office,” and add “Associate Director for Demographic Programs and Associate Director for Methodology and Standards''.

Systems exempted from certain provisions of the act:

Insert “system of” between “this” and “records” in the first sentence.

Dated: October 29, 2002.
Brenda Dolan,
Department of Commerce, Freedom of Information/Privacy Act Officer.

[FR Doc. 02-27819 Filed 10-31-02; 8:45 am]

BILLING CODE 3510-07-P